DEPARTMENT OF ENERGY

Federal Energy Regulatory Commission

Sunshine Act Meetings

The following notice of meeting is published pursuant to section 3(a) of the government in the Sunshine Act (Pub. L. 94-409), 5 U.S.C. 552b:

TIME AND DATE: November 18, 2021, 10:00 a.m.

PLACE: Open to the public via audio web­cast only. Join FERC online to listen live at http://ferc.capitolconnection.org/.

STATUS: Open.

MATTERS TO BE CONSIDERED: Agenda.

* NOTE—Items listed on the agenda may be deleted without further notice.

1084th—Meeting, Open Meeting
[November 18, 2021, 10:00 a.m.]
Item No. | Docket No. | Company
Administrative
A-1 | AD22-1-000 | Agency Administrative Matters.
A-2 | AD22-2-000 | Customer Matters, Reliability, Security and Market Operations.
A-3 | AD07-13-015 | FY 2021 Report on Enforcement.
Electric
E-1 | RM22-2-000 | Reactive Power Capability Compensation.
E-2 | OMITTED
E-3 | ER21-2838-001 | Public Service Company of Colorado.
E-4 | ER18-1639-010 | Constellation Mystic Power, LLC.
E-5 | ER17-998-001, EL17-61-001, EL18-91-000 (not consolidated) | DATC Path 15, LLC.
E-6 | OMITTED
E-7 | ER20-1720-001, ER20-1720-002 | Southern California Edison Company.
E-8 | ER20-1739-000, ER20-1739-001 | American Transmission Systems, Incorporated and PJM Interconnection, L.L.C.
E-9 | EL21-9-000 | North Carolina Electric Membership Corporation v. Duke Energy Progress, LLC.
E-10 | ER20-1237-001, ER20-1237-002 | Ameren Illinois Company.
E-11 | ER17-1609-003 | Carroll County Energy LLC.
| ER19-1215-002 | Cricket Valley Energy Center, LLC.
E-12 | EL21-49-001 | Hecate Energy Greene County 3 LLC v. Central Hudson Gas & Electric Corporation and New York Independent System Operator, Inc.
E-13 | EL21-70-000 | Luna Valley Solar I, LLC v. Pacific Gas and Electric Company and California Independent System Operator Corporation.
E-14 | EL21-73-000 | Edgecombe Solar Energy LLC v. Duke Energy Progress, LLC, Duke Energy Florida, LLC, and Duke Energy Carolinas, LLC.
E-15 | ER21-1065-002 | TransCanyon Western Development, LLC.
E-16 | EL21-89-000, QF21-629-001 | Hecate Energy Blair Road LLC.
E-17 | IN21-9-000 | Golden Spread Electric Cooperative, Inc.
Gas
G-1 | RP15-904-003 | Gas Transmission Northwest LLC.
G-2 | RP21-576-001 | Transcontinental Gas Pipe Line Company, LLC.
Hydro
H-1 | P-5737-013 | Santa Clara Valley Water District.
H-2 | P-14867-002 | Scott's Mill Hydro, LLC.
H-3 | P-14869-002 | RAMM Power Group, LLC.
H-4 | P-2310-227 | Pacific Gas and Electric Company.
| P-2784-006, P-14530-001 | Nevada Irrigation District.
H-5 | P-2487-048 | Hydro Power, Inc. and Albany Engineering Corporation.
H-6 | P-15030-000 | Desert Pumped Storage, LLC.
Certificates
C-1 | CP17-494-004 | Pacific Connector Gas Pipeline, LP.
| CP17-495-004 | Jordan Cove Energy Project L.P.
C-2 | CP21-116-001 | Gulf States Transmission LLC.
C-3 | CP21-23-000 | Columbia Gas Transmission, LLC.
C-4 | CP17-40-010 | Spire STL Pipeline LLC.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's website at https://elibrary.ferc.gov/eLibrary/search using the eLibrary link.

The public is invited to listen to the meeting live at http://ferc.capitolconnection.org/. Anyone with internet access who desires to hear this event can do so by navigating to www.ferc.gov's Calendar of Events and locating this event in the Calendar. The event will contain a link to its audio webcast. The Capitol Connection provides technical support for this free audio webcast. It will also offer access to this event via phone bridge for a fee. If you have any questions, visit http://ferc.capitolconnection.org/ or contact Shirley Al-Jarani at 703-993-3104.

Dated: November 10, 2021.
Kimberly D. Bose,
Secretary.

[FR Doc. 2021-25079 Filed 11-12-21; 4:15 pm]

BILLING CODE 6717-01-P